DEPARTMENT OF THE TREASURY

Internal Revenue Service

Open Meeting of the Taxpayer Advocacy Panel Earned Income Tax Credit Issue Committee

AGENCY: Internal Revenue Service (IRS) Treasury.

ACTION: Notice.

SUMMARY: An open meeting of the Taxpayer Advocacy Panel Earned Income Tax Credit issue committee will be conducted in Atlanta, Georgia to discuss various IRS issues. The public is invited to make oral comments.

DATES: The meeting will be held Wednesday, August 27, 2003.

FOR FURTHER INFORMATION CONTACT: Mrs. Marisa Knispel at telephone number 888-912-1227 (toll-free), or 718-488-3557 (non toll-free).

SUPPLEMENTARY INFORMATION: Notice is hereby given pursuant to Section 10(a)(2) of the Federal Advisory Committee Act, 5 U.S.C. App. (1988) that an open meeting of the Taxpayer Advocacy Panel Earned Income Tax Credit Issue Committee will be held Wednesday, August 27, 2003 from 1 p.m. to 4 p.m. EDT in Atlanta, GA. The public is invited to make oral comments. Individual comments will be limited to 5 minutes. Notification of intent to attend the meeting must be made with Marisa Knispel. Mrs. Knispel may be reached at telephone number 888-912-1227 or 718-488-3557, or, write Marisa Knispel at; TAP Office, 10 MetroTech Center, 625 Fulton Street, Brooklyn, NY 11201, or post your comments to the Web site: http://www.improveirs.org.

The agenda will include the following: Various IRS issues.

Dated: July 25, 2003.
Deryle J. Temple,
Director, Taxpayer Advocacy Panel.

[FR Doc. 03-19411 Filed 7-29-03; 8:45 am]

BILLING CODE 4830-01-P